DEPARTMENT OF TRANSPORTATION

National Highway Traffic Safety Administration

Reports, Forms, and Recordkeeping Requirements Agency Information Collection Activity Under OMB Review

AGENCY: National Highway Traffic Safety Administration, DOT.

ACTION: Notice.

SUMMARY: In compliance with the Paperwork Reduction Act of 1995 (44 U.S.C. 3501 et seq.) this notice announces that the Information Collection Request (ICR) abstracted below has been forwarded to the Office of Management and Budget (OMB) for review and comment. The ICR describes the nature of the information collection and the expected burden. The Federal Register Notice with a 60-day comment period was published on December 5, 2005 (70 FR 72500-72501).

DATES: Comments must be submitted on or before March 29, 2006.

ADDRESSES: Send comments, within 30 days, to the Office of Information and Regulatory Affairs, Office of Management and Budget, 725-17th Street, NW., Washington, DC 20503, Attention NHTSA Desk Officer.

FOR FURTHER INFORMATION CONTACT: John Siegler at the National Highway Traffic Safety Administration, Office of Research and Technology (NTI-132), 202-366-3976, 400 Seventh Street, SW., Room 5119, Washington, DC 20590.

SUPPLEMENTARY INFORMATION:

National Highway Traffic Safety Administration

Title: Evaluation Surveys for Impaired Driving and Safety Belt Interventions.

OMB Number: 2127-New.

Type of Request: New information collection requirement.

Abstract: The National Highway Traffic Safety Administration proposes to conduct a series of telephone surveys that will examine the effectiveness of multiple National and State Click It or Ticket mobilizations and impaired driving crackdowns, as well as examine the effectiveness of more localized demonstration projects designed to curb impaired driving and/or raise belt use. The National and State telephone surveys would be conducted during the mid 2006-mid 2009 time period. Since Congress has authorized NHTSA to spend millions of dollars annually, to conduct National and State mobilizations and smaller demonstration projects, NHTSA must account for whether these initiatives were effective. The National telephone surveys will be administered to randomly selected samples of 1,200 persons age 18 and older, while regional demonstration surveys can range from as few as 200 participants for a small county to 2,000 participants for a region covering several States. An essential part of this evaluation effort is to compare baseline and post-intervention measures of attitudes, intervention awareness, and (relevant) self-reported behavior to determine if the interventions were associated with changes on those indices.

Affected Public: Randomly selected members of the general public in telephone households.

Estimated Total Annual Burden: 4,000 hours (24,000 interviews averaging 10 minutes each).

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A Comment to OMB is most effective if OMB receives it within 30 days of publication.

Authority: 44 U.S.C. 3506(c)(2)(A).

Marilena Amoni,
Associate Administrator, Program Development and Delivery.

[FR Doc. 06-1763 Filed 2-24-06; 8:45 am]

BILLING CODE 4910-59-M